DEPARTMENT OF HEALTH AND HUMAN SERVICES

Health Resources and Services Administration

Statement of Organization, Functions, and Delegations of Authority

This notice amends Part R of the Statement of Organization, Functions and Delegations of Authority of the Department of Health and Human Services (HHS), Health Resources and Services Administration (HRSA) (60 FR 56605, as amended November 6, 1995; as last amended at 88 FR 44809 dated July 13, 2023) is amended to reorganize sections of the Office of Special Health Initiatives, Office of Operations, Office of Intergovernmental and External Affairs, and Office of Federal Assistance Management.

This reorganization updates and/or realigns functions, including delegations of authority for the: (1) Office of Special Health Initiatives (RA4), (2) Office of Operations (RB), (3) Office of Intergovernmental and External Affairs (RE), and (4) Office of Federal Assistance Management (RJ).

Chapter R—Health Resources and Services Administration

Section R.10 Organization

Under the Section R.10, retitle the Federal Assistance Management (RJ) to Federal Assistance and Acquisition Management (RJ).

Chapter RA4—Office of the Administrator, Office of Special Health Initiatives

Section RA4.20 Function

Add the following to Section RA4.20: (6) Provides agency-wide management and oversight of HRSA Public Health Service Commissioned Corps Affairs.

Chapter RB—Office of Operations

Section RB.10 Organization

Delete Section RB.10 in its entirety and replace with the following:

The Office of Operations (RB) is headed by the Chief Operating Officer, who reports directly to the Administrator, HRSA. The Office of Operations includes the following components:

• Executive Secretariat (RB0);

• Office of Budget and Finance (RB1);

• Office of Administrative Management (RB4);

• Office of Information Technology (RB5); and

• Office of Human Resources (RB6).

Section RB.20 Function

Delete the functional statement for the Office of Operations, Office of the Chief Operating Officer (RB) in its entirety and replace with the following:

(1) Provides leadership for operational activities, interaction, and execution of initiatives across HRSA; (2) plans, organizes and manages annual and multi-year budgets and resources and assures that the conduct of administrative and financial management activities effectively support program operations; (3) provides an array of HRSA-wide services including Executive Secretariat, information technology, facilities, human resources, workforce management, and budget execution and formulation; (4) maintains overall responsibility for policies, procedures, and monitoring of internal controls and systems related to payment and disbursement activities; (5) provides management expertise, staff advice, and support to the Administrator in program and policy formulation and execution; (6) provides leadership in the development, review and implementation of policies and procedures to promote improved information technology management capabilities and best practices; (7) coordinates workforce issues and works closely with the Department on recruitment and training activities; and (8) administers functions of the Chief Financial Officer.

Chapter RB5—Office of Operations, Office of Information Technology

Section RB5.10 Organization

Delete Section RB5.10 in its entirety and replace with the following:

The Office of Information Technology (RB5) is headed by the Chief Information Officer, who reports directly to the Chief Operating Officer, HRSA. The Office of Information Technology includes the following components:

• Office of Information Technology (RB5);

• Division of IT Governance (RB5A);

• Division of Data and Analytics Services (RB5B);

• Division of Grants Performance Systems (RB5C);

• Division of Infrastructure Services (RB5D);

• Division of End User Services (RB5E);

• Division of Cyber Security and Privacy (RB5F); and

• Division of Applications and Platform Services (RB5G).

Section RB5.20 Function

Delete the functional statement for the Office of Information Technology (RB5) within the Office of Operations in its entirety and replace with the following:

Office of Information Technology (RB5)

The Office of Information Technology is responsible for the organization, management, and administrative functions necessary to carry out the following responsibilities: (1) architects, secures, deploys, and maintains HRSA's network, cloud, and data center infrastructure; (2) oversees HRSA's security operations and risk management program; (3) provides information technology (IT) Helpdesk, desktop, telecommunications, and virtual meeting support; (4) engineers, develops, deploys, and supports enterprise and custom applications, data analytics platforms, and enterprise tools; (5) provides Capital Planning and Investment Control, IT governance, and budget formulation and execution; (6) performs strategic and tactical planning; (7) provides leadership in the development, review, and implementation of IT policies and procedures to promote improved IT management capabilities and best practices throughout HRSA; and (8) performs IT budget formulation and execution and contract management.

Chief Technology Officer

The Chief Technology Officer advises the Chief Information Officer on new technologies that align with HRSA's modernization and transformation strategic objectives. The Chief Technology Officer develops HRSA's Enterprise Architecture, business cases and performs proof of concepts to determine if new technologies will meet HRSA's business needs.

Division of IT Governance (RB5A)

The Division of IT Governance coordinates HRSA's IT compliance functions including: (1) provides direct planning development and support to assure that IT activities achieve agency business planning and mission objectives; (2) coordinates control and evaluation of ongoing IT projects and investments, including providing support for HRSA's Enterprise Governance Board; and (3) administers HRSA's records management program.

Division of Data and Analytics Services (RB5B)

The Division of Data and Analytics Services is responsible for the following functions: (1) collaborates with HRSA programs staff about data and information needs and develops approaches for meeting those requirements using appropriate modern technologies; (2) transforms vast amounts of structured and unstructured data into insights, predictive analytics and machine learning models for decision automation; (3) utilizes methods from quantitative disciplines (statistics, machine learning, and operations research) to extract knowledge from data; and (4) enhances and expands the use and utility of HRSA's data by providing technical assistance.

Division of Grants Performance Systems (RB5C)

The Division of Grants Performance Systems develops and maintains modern applications that support HRSA's grants performance reporting capabilities. This includes: (1) evaluates processes based on business requirements and develop and integrates automated systems; (2) manages grants performance reporting systems software development lifecycle; and (3) provides user training and customer support for grants performance systems.

Division of Infrastructure Services (RB5D)

The Division of Infrastructure Services provides leadership and consultation including the following functions: (1) architects, deploys, and supports modern cloud infrastructure services; (2) engineers secure network and data center infrastructure services for high availability; and (3) provides Identity and Access Management Services.

Division of End User Services (RB5E)

The Division of End User Services provides leadership, consultation, training, and management services for HRSA's end user computing environment. Specifically, the Division of End User Services: (1) directs and manages the support and acquisition of HRSA's desktop hardware, mobile devices, telecommunication, and cabling; (2) maintains and secures workstation hardware and software configuration management controls; (3) accounts for property life cycle management, and tracks HRSA-wide IT capital equipment; (4) oversees the delivery of desktop services to staff in HRSA's Regional Offices; and (5) provides telecommunications, video, and web conferencing support.

Division of Cyber Security and Privacy (RB5F)

HRSA's Chief Information Security Officer leads the Division of Cyber Security and Privacy. The Division of Cyber Security and Privacy is responsible for the following functions: (1) implements, coordinates, and administers cyber security and privacy programs to protect HRSA's data and information resources; (2) executes HRSA's Risk Management Program and evaluates and assists with the implementation of safeguards to protect information systems and IT infrastructure; and (3) operates HRSA's Security Operations Center.

Division of Applications and Platform Services (RB5G)

The Division of Applications and Platform Services is responsible for the following: (1) develops, implements, and maintains enterprise custom applications; (2) deploys and supports enterprise platforms; and (3) installs and maintains enterprise platform solutions.

Chapter RB6—Office of Operations, Office of Human Resources

Section RB6.20 Function

Delete the functional statement for the Office of Human Resources (RB6) and Division of Workforce Relations (RB62) in its entirety and replace with the following:

Office of Human Resources (RB6)

(1) Provides advice and guidance on all aspects of the HRSA human resources (HR) management program; (2) provides the full range of HR operations including employment, staffing and recruitment, compensation, classification, executive resources, labor and employee relations, employee benefits, and retirement; (3) develops and coordinates the implementation of HR policies and procedures for HRSA's human resources activities; (4) monitors, evaluates, and reports on the effectiveness, efficiency, and compliance with HR laws, rules, and regulations; (5) provides advice and guidance for the establishment or modification of organization structures; (6) manages the HRSA's Ethics Program; (7) administers HRSA's performance management programs; (8) manages the incentive and honor awards programs; (9) represents HRSA in HR matters both within and outside of the Department; (10) monitors HR accountability; (11) manages HR information technology; (12) directs, coordinates, and conducts workforce development activities for HRSA; and (13) conducts HRSA-wide workforce analysis studies and surveys.

Division of Workforce Relations (RB62)

The Division of Workforce Relations is responsible for providing advice, guidance, and counsel to agency employees and managers. Specifically, the Division of Workforce Relations: (1) represents HRSA on HR matters before the Department, the Office of the General Counsel, the Office of Government Ethics, the Office of Personnel Management, the unions, and the Federal Labor Relations Authority; (2) provides resources to managers and employees, such as labor relations, employee relations, performance management, employee benefits, and retirement; (3) manages the unemployment and voluntary leave transfer programs; (4) manages the HRSA-wide ethics program; (5) administers the performance management programs; (6) manages HRSA's Telework Program; (7) ensures program integrity and accountability, including conducting program audits, reviews and/or self-assessments; and (8) provides advice, guidance, and counsel to HRSA employees and managers for assigned programs.

Chapter RE—Office of Intergovernmental and External Affairs (RE)

Section RE.10 Organization

Delete Section RE.10 in its entirety and replace with the following:

The Office of Intergovernmental and External Affairs (RE) is headed by the Associate Administrator, who reports directly to the Administrator, HRSA. The Office of Intergovernmental and External Affairs (RE) includes the following components:

• Office of the Associate Administrator (RE);

• Division of Strategic External Engagement (REZ);

• Division of Administrative Operations (REY);

• Boston Regional Office (RE1);

• New York Regional Office (RE2);

• Philadelphia Regional Office (RE3);

• Atlanta Regional Office (RE4);

• Chicago Regional Office (RE5);

• Dallas Regional Office (RE6);

• Kansas City Regional Office (RE7);

• Denver Regional Office (RE8);

• San Francisco Regional Office (RE9); and

• Seattle Regional Office (REX).

Section RE.20 Function

Delete the functional statement for the Office of Intergovernmental and External Affairs (RE) in its entirety and replace with the following:

Office of Intergovernmental and External Affairs (RE)

The Office of Intergovernmental and External Affairs serves as the principal agency lead on intergovernmental and external affairs, regional operations, and tribal partnerships. The Office serves as the agency liaison to the HHS Office of Intergovernmental and External Affairs and other external key stakeholders to advance HRSA's priorities. The office provides the HRSA Administrator and agency leadership with a single point of contact on intergovernmental, external events, stakeholder associations, and interest groups activities, and serves as the primary liaison to Department and other federal intergovernmental staff. The office provides leadership and management to HRSA's 10 regional offices that support engagement and promote HRSA's mission and priorities across regions, states, tribes, territories, and local communities.

Division of Strategic External Engagement (REZ)

The Division of Strategic External Engagement leads the coordination of external events for HRSA and manages and coordinates cross-HRSA roll-out external engagement across regional offices. The Division guides and directs outreach and engagement activities and communications strategies. Specifically, the Division of Strategic External Engagement: (1) leads and coordinates HRSA external events and the amplification of cross-HRSA efforts through regional offices (2) plans and directs an annual external affairs strategy for the agency; (3) leads the preparation and guidance for new stakeholder outreach and engagement initiatives for regional offices; (4) develops technical assistance tools and strategies for communications and engagement strategies used by regional offices; (5) leads responses to data calls and inquiries; (6) manages agency cross-bureau cooperative agreements and activities with national organizations of state and local health leaders and elected officials; (7) coordinates tribal activities across the agency and strengthens HRSA's relationship with tribes on HRSA's programmatic and policy matters; and (8) manages HRSA's Tribal Advisory Council, participates in HHS tribal consultations and collaborates with Indian Health Services and other federal and community stakeholders to address tribal issues.

Division of Administrative Operations (REY)

The Division of Administrative Operations collaborates with the Office of Intergovernmental and External Affairs leadership to plan, coordinate, and direct office wide administrative management activities. The division carries out operations activities for Headquarters and 10 regional offices. Specifically, the Division of Administrative Operations: (1) executes the office's budget; (2) provides human resource services regarding all aspects of personnel management, workforce planning, and the allocation and utilization of personnel resources; (3) coordinates the business management functions for the office's grants programs; (4) plans, directs, and coordinates office-wide administrative management activities (e.g., budget, personnel, procurements, delegations of authority); (5) coordinates and supports the office's quality and internal control efforts; and (6) provides additional support services including the acquisition, management, and maintenance of supplies, equipment, space, training, and travel.

Regional Offices

HRSA's Regional Offices develop and maintain relationships with state, territory, local, and tribal government leaders and creates new partnerships with key stakeholders to address HRSA's key priorities. Regional offices amplify HRSA-led external events focused by participating in various engagement activities, including representing HRSA at regional, state, territorial, tribal, or local meetings. Specifically, HRSA's Regional Offices: (1) responds to invitational speaking requests or technical assistance requests; (2) conducts outreach to expand knowledge of HRSA's programs to advance agency and Department priorities; (3) generates and sustains collaborative efforts with state and jurisdictional health care leaders to align HRSA and other resources; (4) presents regional surveillance and analysis of health care trends and makes recommendations to HRSA leadership, government officials, and stakeholders to improve policies and programs; and (5) exercises management authority for general administration of HRSA's regional offices.

The HRSA Regional Offices includes the following components:

• Boston Regional Office (RE1);

• New York Regional Office (RE2);

• Philadelphia Regional Office (RE3);

• Atlanta Regional Office (RE4);

• Chicago Regional Office (RE5);

• Dallas Regional Office (RE6);

• Kansas City Regional Office (RE7);

• Denver Regional Office (RE8);

• San Francisco Regional Office (RE9); and

• Seattle Regional Office (REX).

Chapter RJ—Office of Federal Assistance and Acquisition Management (RJ)

Rename the Office of Federal Assistance Management to the Office of Federal Assistance and Acquisition Management (RJ) and realign the Office of Acquisitions Management and Policy from the Office of Operations to the Office of Federal Assistance and Acquisition Management.

Section RJ.00 Mission

Through strategic direction and collaborative efforts, the Office of Federal Assistance and Acquisition Management provides leadership in the planning, awarding, oversight, and closeout of federal assistance, acquisition, and related activities that advance the HRSA mission.

Section RJ.10 Organization

Delete Section RJ.10 in its entirety and replace with the following:

The Office of Federal Assistance and Acquisition Management (RJ) is headed by the Associate Administrator, who reports directly to the Administrator, HRSA. The Office of Federal Assistance and Acquisition Management includes the following components:

• Office of the Associate Administrator (RJ);

• Office of Operations Management (RJA);

• Office of Systems and Data (RJB);

• Division of Financial Integrity (RJ1);

• Division of Grants Policy (RJ2);

• Division of Grants Management Operations (RJ3);

• Division of Independent Review (RJ4);

• Office of Acquisitions Management and Policy (RJC);

• Division of Enterprise Information Technology Services (RJC1);

• Division of Primary Care and Health Infrastructure Services (RJC2);

• Division of Population-Based and Enterprise Services (RJC3); and

• Division of Procurement Management (RJC4).

Section RJ.20 Function

Delete the functional statement for the Office of Federal Assistance Management (RJ) in its entirety and replace with the following which includes the functional statement for the Office of Acquisitions Management and Policy (RJC):

Office of Federal Assistance and Acquisition Management (RJ)

The Office of Federal Assistance and Acquisition Management provides national leadership in the administration and financial integrity of HRSA's federal assistance programs and acquisitions management. Provides leadership, direction, coordination to all phases of grants policy, administration, independent review of competitive grant applications, planning, development, and implementation of policies and procedures for agreements and acquisitions. Specifically, the Office of Federal Assistance and Acquisition Management: (1) serves as the Administrator's principal source for grants and acquisition policy for financial integrity of HRSA programs; (2) exercises oversight over the agency's business processes related to assistance programs; (3) exercises the responsibility within HRSA for the award and management of contracts; (4) plans, directs, and administers HRSA's Community Projects Funding/Congressionally Directed Spending program; (5) directs and carries out the independent review of grant applications of HRSA's competitive programs; (6) provides advice and consultation on the interpretation and application of the Federal Acquisition Regulation and HHS policies and procedures which govern reimbursable agreements and contracts management; (7) coordinates HRSA positions and actions with respect to the audit of contracts; (8) functions as the focal point of all communications and negotiations with HRSA's business partners, and liaises directly with or through Bureaus/Offices with contractors, other organizations, and various components of the Department; (9) provides leadership, guidance, and advice on the promotion of the activities in HRSA relating to procurement and material management governed by the Small Business Act of 1958, Executive Order 11625, other statutes, and national policy directives for augmenting the role of private industry and small and minority businesses as sources of supply to the government and government contractors; (10) plans, directs, and coordinates HRSA's category management program; (11) oversees the administration of the Federal Certification Program for HRSA's Contracting Officer's Representatives, contracting acquisition professionals, and Program and Project Managers; (12) oversees the administration and implementation of the HRSA Federal Purchase Card Program; (13) and exercises the responsibility within HRSA for grant and cooperative agreement receipt, award, and post-award processes;

Office of Operations Management (RJA)

The Office of Operations Management provides strategic organizational management and direction, and plans, directs, and coordinates business operations and administrative management activities for the Office of Federal Assistance and Acquisition Management. Specifically, the Office of Operations Management: (1) serves as the principal source for administrative operations advice and assistance; (2) provides guidance and coordinates personnel activities; (3) provides organization and management analysis, coordinating the allocation of personnel resources, developing policies and procedures for internal operations, interpreting and implementing management policies and procedures and systems; (4) develops and coordinates administrative delegations of authority activities; (5) leads, plans, and coordinates budgetary activities, such as contracts, procurements and inter-agency agreements, as well as, provides guidance and support to leadership in these areas; (6) provides support services, such as acquisition support, travel coordination, supply management, equipment utilization, printing, property management, space management, records management, and management reports; (7) coordinates administrative management activities with other components within HRSA and HHS, and with other federal agencies, as appropriate; and (8) provides overall support for continuity of operations and emergency support.

Office of Systems and Data (RJB)

The Office of Systems and Data provides strategic management and direction for the Office of Federal Assistance and Acquisition Management's efforts addressing data analysis, evaluation, and systems. Specifically, the Office of Systems and Data: (1) coordinates and analyzes the agency's need for federal assistance data for all programs; (2) collects federal assistance data to quantify and measure financial assistance data for evaluation at the national level; (3) provides coordination and strategic guidance for management of the Electronic Handbook, Grants.gov, and other information technology systems; (4) coordinates Electronic Handbook data requests, dashboards, and report development; (5) provides guidance on data management laws, regulations, governances and policy; (6) develops and manages performance measures; and (7) manages and maintains current data on all electronic sites.

Division of Financial Integrity (RJ1)

The Division of Financial Integrity: (1) coordinates agency-wide efforts addressing HHS's Program Integrity Initiative/Enterprise Risk Management; (2) serves as the agency's focal point for resolving audit findings on HRSA programs resulting from Single and Commercial Audits and special reviews, and related policy; (3) conducts financial and compliance reviews of recipient use of HRSA funds; (4) conducts the pre-award financial assessment of HRSA recipients; (5) conducts the pre-award and post-award review of grant applicant's and recipients financial soundness and management including accounting systems for managing federal grants; (6) conducts ad hoc studies and reviews related to the financial integrity of the HRSA business processes related to assistance programs; (7) serves as the agency's liaison with the Office of Inspector General for investigations and audits related to HRSA programs; (8) coordinates non-federal entities appeal actions for the Department on HRSA decisions related to HRSA programs; (9) coordinates the preparation of informational reports on high risk recipients; (10) conducts internal audits; and (11) coordinates with HRSA staff to provide fiduciary guidance to recipients for effective management of HRSA grant funds.

Division of Grants Policy (RJ2)

The Division of Grants Policy analyzes, develops, and implements HRSA's federal assistance award policy in compliance with statutes, regulations, government-wide administrative requirements, and departmental policy. The Division recommends internal procedures to ensure consistent and effective stewardship of taxpayer dollars.

Division of Grants Management Operations (RJ3)

The Division of Grants Management Operations exercises responsibility within HRSA for all business aspects of grant and cooperative agreement award and post-award processes, and participates in the planning, development, and implementation of policies and procedures for grants and other federal financial assistance mechanisms. Specifically, the Division of Grans Management Operations: (1) plans, directs, and carries out the grants officer functions for all of HRSA's grant programs as well as awarding official functions for various scholarship, loan, and loan repayment assistance programs; (2) participates in the planning, development, and implementation of policies and procedures for grants and cooperative agreements; (3) provides assistance and technical consultation to program offices and recipients in the application of laws, regulations, policies, and guidelines relative to the agency's grant and cooperative agreement programs; (4) develops standard operating procedures, methods, and materials for the administration of the agency's grants programs; (5) establishes standards and guides for grants management operations; (6) reviews recipient financial status reports and prepares reports and analyses on the recipient's use of funds; (7) provides technical assistance to applicants and recipients on financial and administrative aspects of grant projects; (8) provides data and analyses as necessary for budget planning, hearings, operational planning, and management decisions; (9) participates in the development of program guidance and instructions for grant competitions; (10) oversees contracts, such as in support of receipt of applications, and grant closeout operations; and (11) supports post-award monitoring and closeout by analyzing payment management system data and working with grants and program office staff.

Division of Independent Review (RJ4)

The Division of Independent Review is responsible for the management and oversight of HRSA's independent review of grant and cooperative agreement applications for funding. Specifically, the Division of Independent Review: (1) plans, directs, and carries out HRSA's independent review of applications for grants and cooperative agreement funding and assures that the process is fair, open, and competitive; (2) develops, implements, and maintains policies and procedures necessary to carry out the agency's independent review/peer review processes; (3) provides technical assistance to independent reviewers ensuring that reviewers are aware of and comply with appropriate administrative policies and regulations; (4) provides technical advice and guidance to the agency regarding the independent review processes; (5) coordinates and assures the development of program policies and rules relating to HRSA's extramural grant activities; and (6) provides HRSA's Bureaus/Offices with the final disposition of all reviewed applications.

Office of Acquisitions Management and Policy (RJC)

The Office of Acquisitions Management and Policy: (1) provides leadership in the planning, development, and implementation of policies and procedures for contracts; (2) exercises the sole responsibility within HRSA for the award and management of contracts; (3) provides advice and consultation of interpretation and application of HHS policies and procedures governing contracts management; (4) coordinates HRSA positions and actions with respect to the audit of contracts; (5) maintains liaison directly with or through Bureaus/Offices with contractors, other organizations, and various components of the department; (6) provides leadership, guidance, and advice on the promotion of the activities in HRSA relating to procurement and material management governed by the Small Business Act of 1958, Executive Order 11625, other statutes, and national policy directives for augmenting the role of private industry and small and minority businesses as sources of supply to the government and government contractors; (7) plans, directs, and coordinates HRSA's strategic sourcing program; and (8) oversees the administration of the Federal Certification Program for HRSA's Contracting Officer's Representatives, contracting acquisition professionals, and Program and Project Managers.

Division of Enterprise Information Technology Services (RJC1)

The Division of Enterprise Information Technology Services: (l) provides comprehensive acquisition services including planning, soliciting, negotiating, awarding, and administering simplified and negotiated procurement actions tailored to the functions of its assigned Bureaus/Offices; (2) ensures compliance with federal laws and regulations, departmental and HRSA guidelines, policies and procedures; (3) provides professional, in-depth advice and consultation, customized to the Bureaus/Offices, regarding the appropriate contract vehicles and the various phases of the acquisition cycle; (4) conducts pre-award reviews of proposed contracts that exceed the requirements called for in the federal and departmental acquisition regulations in conjunction with the other contract services divisions; (5) plans and coordinates acquisition reviews of contracting activities within HRSA headquarters and the field components; and (6) responds to congressional inquiries and requests for acquisition information from other federal agencies and non-federal sources.

Division of Primary Care and Health Infrastructure Services (RJC2)

The Division of Primary Care and Health Infrastructure Services: (1) provides comprehensive acquisition services including planning, soliciting, negotiating, awarding, and administering simplified and negotiated procurement actions tailored to the functions of its assigned Bureaus/Offices; (2) ensures compliance with federal laws and regulations, departmental and HRSA guidelines, policies and procedures; (3) provides professional, in-depth advice and consultation, customized to the Bureaus/Offices, regarding the appropriate contract vehicles and the various phases of the acquisition cycle; (4) conducts pre-award reviews of proposed contracts that exceed the requirements called for in the federal and departmental acquisition regulations in conjunction with the other contract services divisions; (5) plans and coordinates acquisition reviews of contracting activities within HRSA headquarters and the field components; and (6) responds to congressional inquiries and requests for acquisition information from other federal agencies and non-federal sources.

Division of Population-Based and Enterprise Services (RJC3)

The Division of Population-Based and Enterprise Services: (1) provides comprehensive acquisition services including planning, soliciting, negotiating, awarding, and administering simplified and negotiated procurement actions tailored to the functions of its assigned Bureaus/Offices; (2) ensures compliance with federal laws and regulations, departmental and HRSA guidelines, policies and procedures; (3) provides professional, in-depth advice and consultation, customized to the Bureaus/Offices, regarding the appropriate contract vehicles and the various phases of the acquisition cycle; (4) conducts pre-award reviews of proposed contracts that exceed the requirements called for in the federal and departmental acquisition regulations in conjunction with the other contract services divisions; (5) plans and coordinates acquisition reviews of contracting activities within HRSA headquarters and the field components; and (6) responds to congressional inquiries and requests for acquisition information from other federal agencies and non-federal sources.

Division of Procurement Management (RJC4)

The Division of Procurement Management: (1) administers the training and certification programs in collaboration with HRSA's programs and offices for HRSA's Contracting Officer's Representatives, Federal Acquisitions Certification in Contracting acquisition professionals, and Program and Project Mangers; (2) administers and oversees HRSA's automated contracts systems and federal mandated acquisition life cycle systems; (3) conducts and monitors the performance of the HRSA purchase card program for headquarters, satellite contracts office, and regional field offices; (4) develops and implements policies, procedures, and other internal controls in compliance with federal, departmental, and HRSA acquisition laws, regulations, policies, and/or procedures; (5) coordinates and responds to acquisition-related information requests including congressional inquiries, performance management reviews, and requests for information from the Government Accountability Office, Office of Inspector General, and other departments and non-federal sources; (6) conducts independent reviews and analysis requested by external and internal customers; (7) provides contract audits and analysis related to HRSA's acquisition actions, including terminations, modifications, cost proposals, and invoices; (8) coordinates with HRSA's Office of Budget and Finance to perform annual internal controls testing of HRSA's acquisition management operations, per the requirements of the Office of Management and Budget Circular A-123; (9) maintains the HRSA-wide contract portfolio for Indefinite Delivery/Indefinite Quantity Contracts and Blanket Purchase Agreements; (10) manages the close-out process of negotiated and simplified acquisition actions and other related actions.

Section RJ.30 Delegation of Authority

All delegations of authority and re-delegations of authority made to officials and employees of affected organizational components will continue in them or their successors pending further redelegation, if allowed, provided they are consistent with this reorganization.

This reorganization is effective upon date of signature.

(Authority: 44 U.S.C. 3101)

Carole Johnson,
Administrator.

[FR Doc. 2024-05871 Filed 3-19-24; 8:45 am]

BILLING CODE 4165-15-P